DEPARTMENT OF HEALTH AND HUMAN SERVICES

Food and Drug Administration

Epidemiology Research Needs Related to the Radiofrequency Energy From Wireless Phones

AGENCY: Food and Drug Administration, HHS.

ACTION: Notice of public meeting.

The Food and Drug Administration (FDA) is announcing a public meeting to discuss the health effects of radio frequency (RF) emissions from wireless phones. Currently, the scientific literature relating to the health effects of low level exposure to RF does not demonstrate the existence of any health risk from wireless phones. National and international scientific experts will discuss the need for research into the incidence, distribution, and control of any adverse effects related to RF energy from wireless phones. This meeting is being convened as part of the Cooperative Research and Development Agreement (CRADA) between FDA's Center for Devices and Radiological Health and the Cellular Telecommunications Industry Association (CTIA). This is the second meeting on this subject. FDA announced the first meeting on April 18 and 19, 2001 in the Federal Register of March 27, 2001.

Date and Time: The meeting will be held on May 2, 2001, 8:30 a.m. to 5 p.m. and on May 3, 2001, 8:30 a.m. to 5 p.m.

Location: The meeting will be held at the Marriott Kingsgate Conference Center, University of Cincinnati, Cincinnati, OH 45219.

Contact: Russell D. Owen, Center for Devices and Radiological Health, Food and Drug Administration (HFZ-114), 12709 Twinbrook Pkwy., Rockville, MD 20857, 301-443-7118, FAX 301-594-6775. Further information about the CRADA is available on the Internet at http:// www.fda.gov/cdrh/ocd/wlessphonecrada.html.

Agenda: On May 2, 2001, the scientific experts will review completed and ongoing epidemiology studies and discuss scientific questions that have been raised by this research. On May 3, 2001, the scientific experts will discuss specific studies that could address these scientific questions.

Procedure: Interested persons may present scientific information relevant to items on the agenda. Written submissions may be made to the contact person by April 23, 2001. Oral presentations from the public will be scheduled on May 2, 2001, between 3 p.m. and 5 p.m. Time allotted for each presentation may be limited. Those desiring to make formal oral presentations should notify the contact person before April 23, 2001, and submit a brief statement of the general nature of the information they wish to present, the names and addresses of proposed participants, and an indication of the approximate time requested to make their presentation.

Transcripts: Transcripts of the meeting may be requested in writing from the Freedom of Information Office (HFI-35), Food and Drug Administration, 5600 Fishers Lane, rm. 12A-16, Rockville, MD 20857, approximately 15 working days after the meeting at a cost of 10 cents per page.

If you need special accommodations due to a disability, please contact Abiy B. Desta, 301-443-7192 at least 7 days in advance.

Dated: April 11, 2001.
William K. Hubbard,
Senior Associate Commissioner for Policy, Planning, and Legislation.

[FR Doc. 01-9403 Filed 4-12-01; 9:55 am]

BILLING CODE 4160-01-S